DEPARTMENT OF TRANSPORTATION

Federal Aviation Administration

14 CFR Part 39

[Docket No. 2000-NM-65-AD]

RIN 2120-AA64

Airworthiness Directives; Cessna Model 500 Series Airplanes

AGENCY: Federal Aviation Administration, DOT.

ACTION: Notice of proposed rulemaking (NPRM).

SUMMARY: This document proposes the adoption of a new airworthiness directive (AD) that is applicable to certain Cessna Model 500 series airplanes. This proposal would require inspection of the piston housing for an “SB” impression stamp; a one-time inspection of the brake assembly to detect cracked or broken brake stator disks; and replacement of the brake assembly with a new or serviceable assembly, if necessary. The proposal is prompted by several reports of wheel lockups that appear to be caused by cracked or broken brake stator disks becoming jammed in the brake assembly and preventing rotation. Such jamming of the brake assembly may result in reduced directional control or braking performance during landing.

DATES: Comments must be received by October 23, 2000.

ADDRESSES: Submit comments in triplicate to the Federal Aviation Administration (FAA), Transport Airplane Directorate, ANM-114, Attention: Rules Docket No. 2000-NM-65-AD, 1601 Lind Avenue, SW., Renton, Washington 98055-4056. Comments may be inspected at this location between 9 a.m. and 3 p.m., Monday through Friday, except Federal holidays. Comments may be submitted via fax to (425) 227-1232 or sent via the Internet using the following address: 9-anm-nprmcomment@faa.gov. Comments sent via fax or the Internet must contain “Docket No. 2000-NM-65-AD” in the subject line and need not be submitted in triplicate. Comments sent via the Internet as attached electronic files must be formatted in Microsoft Word 97 for windows or ASCI II text.

The service information referenced in the proposed rule may be obtained from Cessna Aircraft Co., P.O. Box 7706, Wichita, Kansas 67277. This information may be examined at the FAA, Transport Airplane Directorate, 1601 Lind Avenue SW., Renton, Washington, or at the FAA, Wichita Aircraft Certification Office, 1801 Airport Road, Room 100, Mid-Continent Airport, Wichita, Kansas 67209.

FOR FURTHER INFORMATION CONTACT: Shane Bertish, Aerospace Engineer, Systems and Propulsion Branch, ACE-116W, Wichita Aircraft Certification Office, 1801 Airport Road, Room 100, Mid-Continent Airport, Wichita, Kansas 67209; telephone (316) 946-4156; fax (316) 946-4407.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-65-AD.” The postcard will be date stamped and returned to the commenter.

Availability of NPRMs

Any person may obtain a copy of this NPRM by submitting a request to the FAA, Transport Airplane Directorate, ANM-114, Attention: Rules Docket No. 2000-NM-65-AD, 1601 Lind Avenue SW., Renton, Washington 98055-4056.

Discussion

The FAA has received reports of wheel lockups after release of brakes following landing. The lockups adversely affect braking performance and directional control and appear to be associated with cracks in the brake stator disks. If multiple cracks extend completely through the stator, a piece of the disk may break loose and slip down, jamming the wheel/tire assembly. If not corrected, this condition could result in the wheel/tire assembly becoming locked in place and consequent reduced directional control or braking performance during landing.

Explanation of Relevant Service Information

The FAA has reviewed and approved Cessna Service Bulletin SB500-32-47, dated February 22, 2000, which transmits BFGoodrich Service Bulletin 2-1530-32-2, Revision No. 1, dated February 3, 2000, and Cessna Service Bulletins SB500-32-48 and SB550-32-41, both dated February 22, 2000, which transmit BFGoodrich Service Bulletin 2-1528-32-2, Revision No. 1, dated February 3, 2000.

BFGoodrich Service Bulletin 2-1528-32-2, Revision 1 applies to airplanes equipped with BFGoodrich brake assembly part number P/N 2-1528-6, and Service Bulletin 2-1530-32-2, Revision 1 applies to airplanes equipped with BFGoodrich brake assembly P/N 2-1530-4. These service bulletins describe procedures for inspection for certain letters impression-stamped on the piston housing or the stator disks; inspection of the brake assembly for cracked or broken stator disks, if no such impression stamps are found; and replacement of the brake assembly with a new or serviceable brake assembly.

Explanation of Requirements of Proposed Rule

Since an unsafe condition has been identified that is likely to exist or develop on other products of this same type design, the proposed AD would require accomplishment of the actions specified in the service bulletins described previously.

Cost Impact

There are approximately 370 airplanes of the affected design in the worldwide fleet. The FAA estimates that 259 airplanes in the U.S. registry would be affected by this proposed AD, that the average labor rate is $60 per work hour, and that it would take up to 1 work hour per airplane to accomplish the proposed inspection if the inspection were done at the time of a tire change and up to 4 work hours per airplane if the inspection were done at a different time. Based on these figures, the cost impact of the proposed AD on U.S. operators is estimated to be $15,540, or $60 per airplane, for inspections of the brake assembly done at the time of a tire change and up to $62,160, or $240 per airplane, for inspections done at a different time.

The cost impact figures discussed above are based on assumptions that no operator has yet accomplished any of the requirements of this proposed AD and that no operator would accomplish those actions in the future if this proposed AD were not adopted.

The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Cessna Airplane Company: Docket 2000-NM-65-AD.

Applicability: Model 500 and 501 series airplanes, serial numbers 0001 through 0689 inclusive, and Model 550 and 551 series airplanes, serial numbers 0002 through 0733 inclusive; certificated in any category; equipped with BFGoodrich brake assembly part number (P/N) 2-1528-6 or 2-1530-4.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent jamming of the wheel/tire assembly, which could result in a loss of directional control or braking performance upon landing, accomplish the following:

Inspection

(a) Within the next 50 landings or 90 days after the effective date of this AD, whichever occurs first, inspect the brake assembly for an “SB” impression stamped on the piston housing, as shown in Figure 1 of BFGoodrich Service Bulletin 2-1528-32-2, Revision 1 (for airplanes equipped with BFGoodrich brake assembly P/N 2-1528-6) or Service Bulletin 2-1530-32-2, Revision 1 (for airplanes equipped with BFGoodrich brake assembly P/N 2-1530-4), both dated February 3, 2000, as applicable. If an “SB” is impression-stamped on the piston housing, no further action is required by this AD.

(b) Within the next 50 landings or 90 days after the effective date of this AD, whichever occurs first, inspect the stator disks for a CHG AI or a CHG B or higher letter impression-stamped on the disk, in accordance with BFGoodrich Service Bulletin 2-1528-32-2, Revision 1 (for airplanes equipped with BFGoodrich bake assembly P/N 2-1528-6) or Service Bulletin 2-1530-32-2, Revision 1 (for airplanes equipped with BF Goodrich brake assembly P/N 2-1530-4), both dated February 3, 2000, as applicable. Unless both stator disks are so marked, perform paragraph (b)(1).

(1) When the brake assembly has accumulated 376 total landings since its installation or within 50 landings on the airplane after the effective date of this AD, whichever occurs later, perform a detailed visual inspection for cracked or broken disks in accordance with the applicable service bulletin.

(i) If no cracked or broken stator disks are found, the brake assembly can be re-assembled and used until a total of 700 landings are accumulated on the brake assembly at which time the brake assembly must be removed and replaced with a new or serviceable brake assembly.

(ii) If any cracked or broken stator disk is found, prior to further flight, the brake assembly must be replaced with a new or serviceable brake assembly.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(2) When the brake assembly has accumulated 700 total landings since its installation or within 50 landings on the airplane after the effective date of this AD, whichever occurs later, replace the brake assembly with a new or serviceable brake assembly, in accordance with the applicable service bulletin.

Alternative Method of Compliance

(c) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(d) Special flight permits may be issued in accordance with sections 21.197 and 21.199 of the Federal Aviation Regulations (14 CFR 21.197 and 21.199) to operate the airplane to a location where the requirements of this AD can be accomplished.

Issued in Renton, Washington, on August 31, 2000.
Donald L. Riggin,
Acting Manager, Transport Airplane Directorate, Aircraft Certification Service.

[FR Doc. 00-22910 Filed 9-6-00; 8:45 am]

BILLING CODE 4910-13-P